NATIONAL SCIENCE FOUNDATION

Sunshine Act Meeting

The National Science Board, pursuant to NSF regulations (45 CFR part 614), the National Science Foundation Act, as amended (42 U.S.C. 1862n-5), and the Government in the Sunshine Act (5 U.S.C. 552b), hereby gives notice of the scheduling of meetings for the transaction of National Science Board business, as follows:

AGENCY: National Science Board, NSF.

DATE AND TIME: May 5, 2015 from 8:00 a.m. to 3:45 p.m. and May 6, 2015 from 8:00 a.m. to 3:00 p.m. (EDT).

PLACE: These meetings will be held at the National Science Foundation, 4201 Wilson Blvd., Rooms 1235, Arlington, VA 22230. All visitors must contact the Board Office (call 703-292-7000 or send an email message to nationalsciencebrd@nsf.gov) at least 24 hours prior to the meeting and provide name and organizational affiliation. Visitors must report to the NSF visitor desk located in the lobby at the 9th and N. Stuart Streets entrance to receive a visitor's badge.

WEBCAST INFORMATION: Public meetings and public portions of meetings will be webcast. To view the meetings, go to http://www.nsf.gov/nsb/notices/ and follow the instructions.

UPDATES: Please refer to the National Science Board Web site for additional information. Meeting information and schedule updates (time, place, subject matter or status of meeting) may be found at http://www.nsf.gov/nsb/notices/.

AGENCY CONTACT: Jennie L. Moehlmann, jmoehlma@nsf.gov, (703) 292-7000.

PUBLIC AFFAIRS CONTACT: Nadine Lymn, nlymn@nsf.gov, (703) 292-2490.

STATUS: Portions open; portions closed.

Open Sessions

May 5, 2015

8:00-8:05 a.m. (Chairman's introduction)

8:05-9:05 a.m. (AO)

10:30-10:45 a.m. (CSB)

10:45-11:15 a.m. (CPP)

11:15-11:55 a.m. (Plenary)

May 6, 2015

10:45-11:25 a.m. (Plenary)

12:30-1:15 p.m. (Plenary)

1:15-3:00 p.m. (SEI)

Closed Sessions

May 5, 2015

9:05-9:35 a.m. (AO)

9:35-10:20 a.m. (CSB)

1:00-3:45 p.m. (CPP)

May 6, 2015

8:00-8:30 a.m. (Plenary executive)

8:30-10:30 a.m. (Plenary)

MATTERS TO BE DISCUSSED:

Tuesday, May 5, 2015

Committee on Audit & Oversight (AO)

Open Session: 8:05-9:05 a.m.

• Approval of February 2015 open meeting minutes

• Committee Chairman's opening remarks

• Approval of OIG Semiannual Report materials

• NSF FY 2014 Merit Review Report

• Inspector General's update, including FY 2015 Financial Statement audit plans

• Chief Financial Officer's update

• Committee Chairman's closing remarks

Audit and Oversight Committee

Closed Session: 9:05-9:35 a.m.

• Approval of February 2015 closed meeting minutes

• Committee Chairman's opening remarks

• Discussion of two-month grantee salary policy

• Chairman's closing remarks

Committee on Strategy and Budget (CSB)

Closed Session: 9:35-10:20 a.m.

• Committee Chairman's remarks

• Approval of CSB closed minutes for the February 2015 meeting and March 2015 teleconference

• NSF FY 2017 budget development

• Performance Improvement Officer update on FY 2015-2017 strategic reviews

Committee on Strategy and Budget (CSB)

Open Session: 10:30-10:45 a.m.

• Approval of CSB open minutes for February 2015 meeting and open joint CPP/CSB minutes for February 2015

• NSF FY 2016 budget update

Committee on Programs and Plans (CPP)

Open Session: 10:45-11:15 a.m.

• Approval of open minutes of the February 2015 meeting

• Committee Chairman's remarks

• Information item: Cornell High Energy Synchrotron Source (CHESS)

• Information item: Advanced LIGO

Plenary Board Meeting

Open Session: 11:15-11:35 a.m.

• Presentation by the President of NSB's 2015 Public Service Award recipient, the American Museum of Natural History

Plenary Board Meeting

Open Session: 11:35-11:55 a.m.

• Presentation by the President of NSB's 2015 Public Service Award recipient, the Museum of Science, Boston's National Center for Technological Literacy

Committee on Programs and Plans (CPP)

Closed Session: 1:00-3:45 p.m.

• Approval of closed CPP minutes for February 2015 meeting and April 2015 teleconference

• Committee Chairman's remarks

• Information Item: MPS Advisory Committee, Subcommittee and NSF response to strategic plan for particle physics outlined in the May 2014 Particle Physics Project Prioritization Panel (P5) report

• Action Item: National High Magnetic Field Laboratory (NHMFL)

• Action Item: Regional Class Research Vessel (RCRV) project

• Action Item: National Optical Astronomy Observatory (NOAO)

• Action Item: National Radio Astronomy Observatory (NRAO)

• Action Item: Gemini Observatory

Wednesday, May 6, 2015

Plenary

Executive Closed Session: 8:00-8:30 a.m.

• Approval of executive closed session minutes, February 2015

• Election of Executive Committee members

• Board member proposal

• Chairman's remarks

Plenary Board Meeting

Closed Session: 8:30-10:30 a.m.

• Approval of closed session minutes, February 2015

• Discussion of risks to NSF

• Awards and Agreements/CPP action items, including RCRV, NOAO, NRAO and Gemini Observatory

• Closed committee reports

• Chairman's remarks

Plenary Board Meeting

Open Session: 10:45-11:05 a.m.

• Presentation by the NSF 2015 Alan T. Waterman Award Recipient, Dr. Andrea Alù

Plenary Board Meeting

Open Session: 11:05-11:25 a.m.

• Presentation by the recipient of the NSB 2015 Vannevar Bush Award

Plenary Board Meeting

Open Session: 12:30-1:15 p.m.

• Approval of open session minutes, February 2015

• Chairman's report

• Resolution votes

• Director's report

• Open committee reports

• Chairman's remarks

Committee on Science & Engineering Indicators (SEI)

Open Session: 1:15-3:00 p.m.

• Chairman's introduction

• Approval of the February 2015 meeting minutes

• Discussion of the rollout of the Companion Report to Science and Engineering Indicators 2014, Revisiting the STEM Workforce

• Review and discussion of Indicators 2016 draft chapters

• Chairman's closing remarks

Meeting Adjourns: 3:00 p.m.

Ann Bushmiller,
Senior Counsel to the National Science Board.

[FR Doc. 2015-10252 Filed 4-28-15; 4:15 pm]

BILLING CODE 7555-01-P